DEPARTMENT OF TRANSPORTATION

Office of the Secretary

[Docket No. DOT-OST-2023-0087]

Department of Transportation Equity Action Plan Update

AGENCY: Office of the Secretary (OST), Department of Transportation (DOT).

ACTION: Request for information.

SUMMARY: The Office of the Secretary of Transportation (OST) invites public comment regarding how our work to advance equity has impacted organizations and communities, as well as input on performance metrics, data sets, tools, and research to measure and advance transportation equity. The responses to this RFI will help the Department understand the impact of our equity activities to date and inform what equity-related activities and performance metrics we prioritize through the 2023 update to DOT's Equity Action Plan.

DATES: Comments are requested by June 30, 2023. See the SUPPLEMENTARY INFORMATION section on “Public Participation,” below, for more information about written comments.

Written Comments: Responses to this RFI are voluntary and may be submitted anonymously. Comments should refer to the docket number above and be submitted by one of the following methods:

• Federal Rulemaking Portal: http://www.regulations.gov. Follow the online instructions for submitting comments.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal Holidays.

Instructions: For detailed instructions on submitting comments and additional information on the rulemaking process, see the Public Participation heading of the SUPPLEMENTARY INFORMATION section of this document. Note that all comments received will be posted without change to http://www.regulations.gov, including any personal information provided.

Privacy Act: Except as provided below (“confidential business information”), all comments received into the docket will be made public in their entirety. The comments will be searchable by the name of the individual submitting the comment (or signing the comment, if submitted on behalf of an association, business, labor union, etc.). You should not include information in your comment that you do not want to be made public. You may review DOT's complete Privacy Act Statement in the Federal Register published on April 11, 2000 (65 FR 19477-78) or at https://www.transportation.gov/privacy.

Docket: For access to the docket to read background documents or comments received, go to http://www.regulations.gov or to the street address listed above. Follow the online instructions for accessing the dockets.

FOR FURTHER INFORMATION CONTACT: Please email Equity@dot.gov or contact Ariel Gold at 202-695-6833 with questions. Office hours are from 8 a.m. to 5 p.m. EDT, Monday through Friday, except for Federal holidays.

SUPPLEMENTARY INFORMATION: Through this Request for Information (RFI), the Department solicits input from the public regarding: how our work to advance equity has impacted organizations and communities; related partnerships and external activities; performance measures to measure and advance transportation equity; and data sets, research, and tools to help advance transportation equity. Specifically, the Department seeks responses to the questions outlined in the “Questions to the Public” section below.

The DOT Strategic Plan (available at https://www.transportation.gov/dot-strategic-plan) is a roadmap for the Department's implementation of six strategic goals, one of which is Equity. The Equity strategic goal states that the Department will “reduce inequities across our transportation systems and the communities they affect” and “support and engage people and communities to promote safe, affordable, accessible, and multimodal access to opportunities and services while reducing transportation-related disparities, adverse community impacts, and health effects.”

In response to Executive Order (E.O.) 13985, Advancing Racial Equity and Support for Underserved Communities Through the Federal Government (https://www.federalregister.gov/documents/2021/01/25/2021-01753/advancing-racial-equity-and-support-for-underserved-communities-through-the-federal-government), the Department developed the DOT Equity Action Plan (https://www.transportation.gov/priorities/equity/equity-action-plan). It highlights key actions that the Department will undertake to expand access and opportunity to all communities while focusing on underserved, overburdened, and disadvantaged communities. The actions fall under four focus areas—Wealth Creation; Power of Community; Proactive Intervention, Planning, and Capacity Building; and Expanding Access. The DOT Equity Action Plan brings focus and accountability to the Department's Equity strategic goal.

The Bipartisan Infrastructure Law (BIL; enacted November 15, 2021) and Inflation Reduction Act (IRA; enacted August 16, 2022) make historic investments in the transportation sector, improving public safety and climate resilience, creating jobs across the country, and delivering a more equitable future. The Department is committed to reducing barriers to opportunity through the implementation of BIL and IRA, including through actions described in our Equity Action Plan.

E.O. 14091, Further Advancing Racial Equity and Support for Underserved Communities Through the Federal Government (https://www.federalregister.gov/documents/2023/02/22/2023-03779/further-advancing-racial-equity-and-support-for-underserved-communities-through-the-federal), directs all federal agencies to update their Equity Action Plans by September 2023, and on an annual basis thereafter. Specifically, the update should include: the progress made by the agency on the actions, performance measures, and milestones highlighted in the preceding year's Equity Action Plan; potential barriers that underserved communities may face; strategies to address those barriers, and a description of how the agency intends to meaningfully engage with underserved communities.

Government-wide definitions of (a) equity, (b) underserved communities, and (c) disadvantaged communities have been established via Executive Order(s). DOT has adopted these government-wide definitions for the purpose of this RFI and our Equity Action Plan:

(a) The term “equity” means the consistent and systematic treatment of all individuals in a fair, just, and impartial manner, including individuals who belong to communities that often have been denied such treatment, such as Black, Latino, Indigenous and Native American, Asian American, Native Hawaiian, and Pacific Islander persons and other persons of color; members of religious minorities; women and girls; lesbian, gay, bisexual, transgender, and queer (LGBTQ+) persons; persons with disabilities; persons who live in rural areas; persons who live in United States Territories; persons otherwise adversely affected by persistent poverty or inequality; and individuals who belong to multiple such communities. [Source: E.O. 14091]

(b) The term “underserved communities” refers to those populations [included in the definition of “equity”] as well as geographic communities that have been systematically denied the opportunity to participate fully in aspects of economic, social, and civic life, as defined in E.O. 13985. [Source: E.O. 14091]

(c) The term “disadvantaged community” refers to a community that experiences disproportionately high and adverse health, environmental, climate related, economic, and other cumulative impacts. [Source: E.O. 14008, Tackling the Climate Crisis at Home and Abroad, https://www.federalregister.gov/documents/2021/02/01/2021-02177/tackling-the-climate-crisis-at-home-and-abroad]

In addition, DOT has adopted the following definitions of (d) overburdened community and (2) for the purpose of this RFI and our Equity Action Plan:

(d) The term “overburdened community” refers to minority, low-income, tribal, or Indigenous populations or geographic locations in the United States that potentially experience disproportionate environmental and/or safety harms and risks. This disproportionality can be a result of greater vulnerability to environmental hazards, heightened safety risks, lack of opportunity for public participation, or other factors. [Source: https://www.epa.gov/environmentaljustice/ej-2020-glossary]

(e) The term “meaningful public involvement” refers to a process that proactively seeks full representation from the community, considers public comments and feedback, and incorporates that feedback into a project, program, or plan. [Source: https://www.transportation.gov/public-involvement]

The responses to this RFI will help the Department understand the impact of our equity activities to date and inform what efforts we prioritize as we update DOT's Equity Action Plan. Through this request, the Department seeks information from stakeholders in public agencies, academic researchers involved in the study of equity in transportation decision-making, advocacy, community-based organizations, and not-for-profit institutions and individuals working in the transportation sector or the field of equity, and State, local, Tribal, and territorial areas, and the public.

The Department plans to host two public engagements, on June 20 and June 23, 2023, to discuss the topics covered in this RFI. Participation in these events is not required in order to respond to this RFI. Please visit our website for more information and to register for these events: https://www.transportation.gov/priorities/equity/events.

Equity Performance Metrics, Data Sets, Tools, and Research

1. Consider the equity-related performance measures in the Department's Fiscal Year (FY) 2024 Performance Plan and FY 2022 Performance Report, as summarized at https://www.transportation.gov/priorities/equity/equity-strategic-goal.

(a) Which of DOT's equity-related performance measures do you think are most relevant to accomplishing the goals that are most important to you, and why? This could help inform which performance measures we focus on achieving through the Equity Action Plan.

(b) DOT's performance measures are national-level measures. Which of DOT's equity-related performance measures can be helpful to influence and advance equity at a local level? Please provide examples, where available.

2. Through previous requests for information and other engagements, the Department has identified data sets, research, and tools to help assess and address systemic barriers to opportunities and benefits for underserved communities through our programs and policies. For example, this includes the May 2021 Request for Information on Transportation Data and Assessment Methods (available at https://www.regulations.gov/document/DOT-OST-2021-0056-0001) and the February 2023 Request for Information on US DOT Equitable Transportation Community Explorer (ETCE) Tool and Index Methodology that supports the Administration's Justice 40 initiative (available at https://www.federalregister.gov/documents/2023/02/21/2023-03396/request-for-information-on-us-dot-equitable-transportation-community-explorer-etce-tool-and-index).

(a) What recent data sets, research, or tools that have been published should U.S. DOT consider to inform updates to the next phase of our equity work, including assessing and addressing transportation-related disparities? Information submitted via the RFIs listed above does not need to be resubmitted through this RFI.

(b) What are some areas where you need more robust data sets, data standards, guides, or other tools to help you influence and advance equity at a more local level (e.g., State, Territory, Tribal nation, Region, County, City, Community)?

Examples of Impacts and Partnerships

3. Please provide examples of how you or the organization that you represent have taken action or partnered with other entities, either governmental or non-governmental, to influence and advance transportation equity. Where possible, please briefly explain how your example reflects the Department's focus areas (i.e., Expanding Access; Wealth Creation; Power of Community; Proactive Intervention, Planning, and Capacity Building).

4. Please provide examples where you see the Department's work to advance equity has impacted your organization or community, including the extent to which you have seen equity incorporated into DOT's implementation of the Bipartisan Infrastructure Law and Inflation Reduction Act. Where possible, please briefly explain how your example reflects the Department's focus areas (i.e., Expanding Access; Wealth Creation; Power of Community; Proactive Intervention, Planning, and Capacity Building).

The Department plans to host two public engagements, on June 20 and June 23, 2023, to discuss the topics covered in this RFI. Participation in these events is not required in order to respond to this RFI. Please visit our website for more information and to register for these events: https://www.transportation.gov/priorities/equity/events.

Public Participation

How do I prepare and submit comments?

To ensure that your comments are filed correctly, please include the docket number of this document (DOT-OST-2023-0087) in your comments.

Please submit one copy (two copies if submitting by mail or hand delivery) of your comments, including any attachments, to the docket following the instructions given above under ADDRESSES. Please note, if you are submitting comments electronically as a PDF (Adobe) file, we ask that the documents submitted be scanned using an Optical Character Recognition (OCR) process, thus allowing the Agency to search and copy certain portions of your submissions.

How do I submit confidential business information?

Any submissions containing Confidential Information must be delivered to DOT in the following manner:

• Submitted in a sealed envelope marked “confidential treatment requested”;

• Document(s) or information that the submitter would like withheld from the public docket should be marked “PROPIN”;

• Accompanied by an index listing the document(s) or information that the submitter would like the Departments to withhold. The index should include information such as numbers used to identify the relevant document(s) or information, document title and description, and relevant page numbers and/or section numbers within a document; and

• Submitted with a statement explaining the submitter's grounds for objecting to disclosing the information to the public.

DOT will treat such marked submissions as confidential under the FOIA and not include them in the public docket. DOT also requests that submitters of Confidential Information include a non-confidential version (either redacted or summarized) of those confidential submissions in the public docket. If the submitter cannot provide a non-confidential version of its submission, DOT requests that the submitter post a notice in the docket stating that it has provided DOT with Confidential Information. Should a submitter fail to docket either a non-confidential version of its submission or to post a notice that Confidential Information has been provided, we will note the receipt of the submission on the docket, with the submitter's organization or name (to the degree permitted by law) and the date of submission.

Will the Agency consider late comments?

DOT will consider all comments received before the close of business on the comment closing date indicated above under DATES. To the extent practicable, the Agency will also consider comments received after that date.

How can I read the comments submitted by other people?

You may read the comments received at the address given above under WRITTEN COMMENTS. The hours of the docket are indicated above in the same location. You may also see the comments on the internet, identified by the docket number at the heading of this notice, at http://www.regulations.gov.

Please note, this RFI is a planning document and will serve as such. The RFI should not be construed as policy, a solicitation for applications, or an obligation on the part of the government.

Issued in Washington, DC, on May 30, 2023.
Christopher Coes,
Assistant Secretary for Transportation Policy, Department of Transportation.

[FR Doc. 2023-11806 Filed 6-2-23; 8:45 am]

BILLING CODE 4910-9X-P